DEPARTMENT OF THE INTERIOR

Bureau of Ocean Energy Management

[OMB Number 1010—New]

Information Collection: Social Indicators in Coastal Alaska: Arctic Communities Survey; Proposed Collection for OMB Review; Comment Request; MMAA104000

ACTION: 60-Day notice.

SUMMARY: To comply with the Paperwork Reduction Act of 1995 (PRA), the Bureau of Ocean Energy Management (BOEM) is inviting comments on a new collection of information that we will submit to the Office of Management and Budget (OMB) for review and approval. The information collection request (ICR) pertains to a survey conducted in northern coastal Alaska communities.

DATES: Submit written comments by May 13, 2014.

ADDRESSES: Please send your comments on this ICR to the BOEM Information Collection Clearance Officer, Arlene Bajusz, Bureau of Ocean Energy Management, 381 Elden Street, HM-3127, Herndon, Virginia 20170 (mail); or arlene.bajusz@boem.gov (email); or 703-787-1209 (fax). Please reference ICR 1010—New Alaska Survey in your comment and include your name and return address.

FOR FURTHER INFORMATION CONTACT: Arlene Bajusz, Office of Policy, Regulations, and Analysis at (703) 787-1025. You may also request a free copy of the survey. For more information on the survey, contact Chris Campbell in the BOEM Alaska Regional Office at (907) 334-5264.

SUPPLEMENTARY INFORMATION:

OMB Control Number: 1010—New.

Title: Social Indicators in Coastal Alaska: Arctic Communities Survey.

Abstract: This is a new collection that involves a survey of the Alaska coastal area along the Arctic. Section 20 of the Outer Continental Shelf (OCS) Lands Act (OCSLA) requires the Secretary of the Department of the Interior (DOI) to monitor and assess the impacts of resource development activities in Federal waters on human, marine, and coastal environments. The OCSLA authorizes the Secretary of the Interior to conduct studies in areas or regions of lease sales to ascertain the “environmental impacts on the marine and coastal environments of the outer Continental shelf and the coastal areas which may be affected by oil and gas development” (43 U.S.C. 1346) (Pub. L. 95-372).

The National Environmental Policy Act (NEPA) of 1969 (42 U.S.C. 4321-4347) requires that all Federal agencies use a systematic, interdisciplinary approach to ensure the integrated use of the natural and social sciences in any planning and decision making that may have an effect on the human environment. The Council on Environmental Quality's Regulations for Implementing Procedural Provisions of NEPA (40 CFR 1500-1508) state that the “human environment” is to be “interpreted comprehensively” to include “the natural and physical environment and the relationship of people with that environment” (40 CFR 1508.14). An action's “aesthetic, historic, cultural, economic, social or health” effects must be assessed, “whether direct, indirect, or cumulative” (40 CFR 1508.8).

The BOEM is the DOI agency that conducts OCS lease sales and monitors and mitigates adverse impacts that might be associated with offshore resource development. The BOEM Environmental Studies Program implements and manages the responsibilities of research. This new survey will facilitate the meeting of DOI/BOEM information needs by quantifying measures of well-being and the living conditions of residents in coastal Alaska areas, with specific focus on six Iñupiat coastal Alaska Native communities in the North Slope Borough (Barrow, Point Hope, Wainwright, Nuiqsut, Kaktovik, Point Lay).

The BOEM will use the information collected from this survey to learn about local social systems and well-being in a way that may shape development strategies and serve as an interim baseline for impact mitigation and/or monitoring to compare against future research in these areas. Without these data, BOEM will not have sufficient information to make informed oil and gas leasing and development decisions for these areas. The studies will help BOEM identify and mitigate impacts of offshore oil and gas exploration and development on Alaska Native communities.

Survey Instrument: The Social Indicators survey is voluntary and will be given to the head of each selected household in the study communities. The survey instrument was developed through collaborative discussions with key community members tasked to serve on the North Slope Management Board, specifically established to deal with this study.

Interview Methods: The interviews will be conducted in person in a setting most comfortable for the respondents. This personal method is more expensive and time consuming for the researchers, but these drawbacks are outweighed by improvements in the quality of information obtained and the rapport established between the surveyor and the person interviewed. Telephone interviews have not been successful on the North Slope. Each respondent will be paid an honorarium for taking part in the study. Responses are voluntary.

Frequency: One-time event.

Description of Respondents: Respondents are members of the Alaskan coastal communities in the North Slope Borough.

Estimated Reporting and Recordkeeping Hour Burden: We estimate 1,001 respondents and expect each interview to last 1 hour for a total of 1,001 burden hours.

Estimated Reporting and Recordkeeping Non-Hour Cost Burden: We have identified no non-hour paperwork cost burdens for this collection.

Public Disclosure Statement: The PRA (44 U.S.C. 3501, et seq.) provides that an agency may not conduct or sponsor a collection of information unless it displays a currently valid OMB control number. Until OMB approves a collection of information, you are not obligated to respond.

Comments: We invite comments on: (1) Whether the proposed collection of information is necessary for the agency to perform its duties, including whether the information is useful; (2) the accuracy of the agency's estimate of the burden of the proposed collection of information; (3) ways to enhance the quality, usefulness, and clarity of the information to be collected; and (4) ways to minimize the burden on the respondents, including the use of automated collection techniques or other forms of information technology.

We will summarize written responses to this notice and address them in our submission for OMB approval. As a result of your comments, we will make any necessary adjustments to the burden in our submission to OMB.

Public Availability of Comments: Before including your address, phone number, email address, or other personal identifying information in your comment, you should be aware that your entire comment—including your personal identifying information—may be made publicly available at any time. While you can ask us in your comment to withhold your personal identifying information from public review, we cannot guarantee that we will be able to do so.

Dated: March 5, 2014.
Deanna Meyer-Pietruszka,
Chief, Office of Policy, Regulations, and Analysis.

[FR Doc. 2014-05605 Filed 3-13-14; 8:45 am]

BILLING CODE 4310-MR-P